DEPARTMENT OF HEALTH AND HUMAN SERVICES

Centers for Disease Control and Prevention

Collaborative Efforts To Prevent Child Sexual Abuse

Announcement Type: New.

Funding Opportunity Number: RFA 05038.

Catalog of Federal Domestic Assistance Number: 93.136.

Dates: Application Deadline: April 4, 2005.

I. Funding Opportunity Description

Authority: This program is authorized under section 301(a) and 394(b) of the Public Health Service Act, [42 U.S.C. 241(a) and 280b-2(b), as amended.

Background: Approximately 900,000 minor children in the United States are identified by child protective services as victims of maltreatment on an annual basis. Additionally, in 2002, over 88,000 substantiated or indicated cases of child sexual abuse (CSA) were identified by the Administration on Children, Youth and Families. (National Clearinghouse on Child Abuse and Neglect, 2004). Child sexual abuse is associated with negative outcomes in both childhood and adulthood (e.g., anxiety, depression, self-harming behavior, substance abuse, Post Traumatic Stress Disorder, verbal and physical aggression, poor academic achievement, and low self-esteem and high risk sexual behavior). (Oddone Paolucci, Genuis, Violato, 2001; Putnam and Trickett, 1993; Browne and Finkelhor, 1987).

Due to the serious short and long term consequences of CSA, the Centers for Disease Control and Prevention (CDC's) focus for this effort is on primary prevention (i.e. preventing CSA from initially occurring). The specific focus of the prevention efforts should be on adult and community responsibility in the prevention of perpetration of child sexual abuse. No single factor explains the perpetration of child sexual abuse; rather it is a complex interplay of individual and contextual factors and influence (i.e. individual, relationship, community, and societal) (Krug, et al). Thus, prevention programs should address multiple levels of influence including individual, relationship, community, and societal levels as represented by the World Report on Violence and Health (Krug, et al. 2002).

For the purposes of this announcement, the following definitions apply:

Child: A person under eighteen years of age. Also referred to as “minor child” in this announcement.

Child sexual abuse: “Child sexual abuse involves any sexual activity with a child where consent is not or cannot be given. This includes sexual contact that is accomplished by force or threat of force, regardless of the age of the participants, and all sexual contact between an adult and a child, regardless of whether there is deception or the child understands the sexual nature of the activity. Sexual contact between an older and a younger child also can be abusive if there is a significant disparity in age, development, or size, rendering the younger child incapable of giving informed consent. The sexually abusive acts may include sexual penetration, sexual touching, or non-contact sexual acts such as exposure or voyeurism.” (From the APSAC Handbook on Child Maltreatment, 2nd edition, 2002).

Prevention of CSA: Prevention approaches are on a continuum from those that take place before CSA has occurred to prevent initial perpetration or victimization (i.e., PRIMARY prevention) to those that take place after CSA has occurred to address the consequences of CSA and to prevent it from re-occurring. Although all of these approaches are important, the main emphasis of this project is on the primary prevention of perpetration. The next level of emphasis of this project is on the early identification of perpetration with the hope of preventing re-occurrence.

Prevention collaborative: A partnership that combines the expertise of child abuse prevention, sexual abuse prevention, public health, and other stakeholder agencies/organizations for the purpose of preventing child sexual abuse.

Focus on Adult and Community responsibility: Prevention programs with this focus ensure that adults, both individually and collectively (e.g., as part of organizations and communities): (a) Understand the nature and scope of child sexual abuse, (b) recognize their role in the prevention of child sexual abuse, and (c) possess the knowledge and skills necessary to be actively engaged in child sexual abuse prevention efforts. For the purposes of this definition, adults include those with an interest in the safety and well-being of minor children (e.g. parents, spouses or other family members, teachers, friends, clergy, bystanders, etc.).

Focus on the prevention of Perpetration: Prevention programs/strategies with this focus attempt to prevent either: (a) The act of perpetration, or (b) the development of offending behavior in an individual.

Social ecological framework: A framework for understanding the complex interplay of individual, relationship, social, political, cultural, and environmental factors that influence CSA (Krug et al., 2002), and also provides potential key points for prevention and intervention (Powell, Mercy, Crosby, Dahlberg, and Simon, 1999). For this project, we use the four-level ecological model presented in the World Report on Violence and Health (Krug et al., 2002).

Provider behavior: Providers can be broadly defined to include clinical service providers, as well as providers of prevention programs.

Purpose: To support existing state and local collaboratives in the prevention of child sexual abuse. More specifically, the purpose of this program is to integrate strategies that address (1) adult and community responsibility (2) the prevention of perpetration and (3) all levels of the social ecology (i.e. individual, relationship, community, and societal) into existing state and local level collaboratives that address CSA prevention.

This program addresses the “Healthy People 2010” focus area(s) of Injury and Violence Prevention.

Measurable outcomes of the program will be in alignment with the following performance goal for the National Center for Injury Prevention and Control (NCIPC): Goal 1—Increase the capacity of injury prevention and control programs to address prevention of injuries and violence.

This announcement is only for non-research activities supported by CDC/ATSDR. If research is proposed, the application will not be reviewed. For the definition of research, please see the CDC Web site at the following Internet address: http://www.cdc.gov/od/ads/opspoll1.htm.

Activities: Awardee activities for this program are as follows:

1. Activities to increase capacity to have wide programmatic reach around prevention of child sexual abuse:

• Assess the makeup of the statewide collaborative for appropriate representation from traditional and non-traditional partners (e.g. faith leaders, health care provider organizations, etc.). Recruit missing partners in order to expand the reach of the collaborative.

2. Activities to increase capacity to integrate prevention strategies that address (1) adult and community responsibility (2) the prevention of perpetration and (3) the social ecological model into existing programming.

• Develop a five year prevention plan integrating previously conducted adult and community responsibility and perpetration prevention programming, using logic modeling, and informed by existing data (e.g. statewide survey of existing child sexual abuse programming, surveys, etc.) to identify prevention strategies that addresses adult and community responsibility, perpetration prevention, and multiple levels of the social ecological model to be implemented in one or more local settings. Planning should be in partnership with local level partners. Since the prevention plan extends beyond the 2-year program period, the plan should address strategies for garnering support for the implementation of the plan. Priority activities should be those that address a level of the social ecology not previously addressed by the applicant.

• Implement at least one priority activity from the prevention plan in the two-year program period.

• Attend and participate in technical assistance and planning meetings coordinated by the CDC for all cooperative agreement recipients (two staff members; two meetings per year; two days per meeting. One meeting will be held in Atlanta; one meeting will be held in the same city as one of the funded sites.).

3. Activities to increase evaluation capacity:

• Create an evaluation subcommittee within the prevention collaborative to develop state and/or local evaluation plans. These evaluation plans should include, but are not limited to, the assessment of changes in capacity, provider behavior, and community norms.

• Implement evaluation plan(s).

• Conduct at least one community (or state level) survey addressing community norms and provider behavior around prevention of CSA, particularly on adult and community responsibility in the prevention of perpetration.

• Develop and implement measures of increased prevention capacity at state and local levels.

• Collaborate with other cooperative agreement recipients and CDC in the development of core components for the community survey and cross-site evaluation.

• Submit required reports on time.

In a cooperative agreement, CDC staff is substantially involved in the program activities, above and beyond routine grant monitoring.

CDC Activities for this program are as follows:

• Provide updated information related to the purposes and activities of this program announcement.

• Provide technical assistance and consultation, if requested, on all aspects of recipient activities, including:

◦ Assessment of the makeup of the state and local collaboratives.

◦ Development of a 5-year prevention plan.

◦ The development of the state and local evaluation plan, including but not limited to the community survey.

• Facilitate any cross-site evaluation in collaboration with cooperative agreement recipients.

• Facilitate the technical assistance and planning meetings that will provide opportunities for awardees to increase knowledge and skills, learn from each other, share resources, and work collaboratively to address issues related to child sexual abuse prevention (two meetings per year, two days per meeting).

• Review evaluation information for presentation and publication.

II. Award Information

Type of Award: Cooperative Agreement. CDC involvement in this program is listed in the Activities Section above.

Fiscal Year Funds: FY 2005.

Approximate Total Funding: $625,000 (This amount is an estimate, and is subject to availability of funds.)

Approximate Number of Awards: Three.

Approximate Average Award: $208,000 (This amount is for the first 12-month budget period, and includes both direct and indirect costs).

Floor of Award Range: $175,000.

Ceiling of Award Range: $210,000.

Anticipated Award Date: September 30, 2005.

Budget Period Length: 12 months.

Project Period Length: Two years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by an organization with state-wide reach and expertise in the primary and/or secondary prevention of child sexual abuse who are current recipients of funds for the Collaborative Efforts to Prevent Child Sexual Abuse program, Program number 02124.

The previous funding cycle was intended to allow for planning of child sexual abuse prevention efforts that focused on adult and community responsibility and the prevention of perpetration. This proposed funding cycle focuses on implementation, sustainability, and continued evaluation of these efforts.

The competition for this cooperative agreement is being limited to current Collaborative Efforts to Prevent Child Sexual Abuse (Collaborative CSA), Program Number 02124 Program recipients for the following reasons:

1. The three-year program period was a planning period for CDC, funded grantees and their partners to begin to understand and build the framework for child sexual abuse prevention that focused on adult and community responsibility and perpetrator prevention.

2. The two year program period for this proposed cooperative agreement will be an implementation and evaluation period where grantees and their state and local partners apply the lessons learned from the previous cycle to integrate the concepts of: (1) Adult and community responsibility; (2) perpetration prevention; and (3) addressing multiple levels of the social ecology to build and implement a comprehensive prevention framework and evaluation plan.

3. An additional two years will allow for the previously funded grantees to more strategically integrate the concepts of adult and community responsibility, perpetration prevention, and programming at all levels of the social ecology into their current state and local efforts to build long term sustainability of these efforts.

4. Because of the necessary planning period in the Collaborative CSA program, an additional two years is needed to build the evaluation capacity of the funded applicants in order for the state and local level evaluation to produce reliable, valid and useful results that can inform the field.

III.2. Cost Sharing or Matching

Matching funds are not required for this program.

III.3. Other

If you request a funding amount greater than the ceiling of the award range, your application will be considered non-responsive, and will not be entered into the review process. You will be notified that your application did not meet the submission requirements.

Special Requirements: If your application is incomplete or non-responsive to the special requirements listed in this section, it will not be entered into the review process. You will be notified that your application did not meet submission requirements.

• Late applications will be considered non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address to Request Application Package

To apply for this funding opportunity use application form PHS 5161. Application forms and instructions are available on the CDC Web site, at the following Internet address: http://www.cdc.gov/od/pgo/forminfo.htm.

To submit your application electronically, please utilize the forms and instructions posted for this announcement at http://www.grants.gov.

If you do not have access to the Internet, or if you have difficulty accessing the forms on-line, you may contact the CDC Procurement and Grants Office Technical Information Management Section (PGO-TIM) staff at: 770-488-2700. Application forms can be mailed to you.

IV.2. Content and Form of Submission

Application: You must submit a project narrative with your application forms. The narrative must be submitted in the following format:

• Maximum number of pages: 20. If your narrative exceeds the page limit, only the first pages, which are within the page limit, will be reviewed.

• Font size: 12 point unreduced.

• Double spaced.

• Paper size: 8.5 by 11 inches.

• Page margin size: One inch.

• Printed only on one side of page.

• Held together only by rubber bands or metal clips; not bound in any other way.

Your narrative should address activities to be conducted over the entire project period, and must include the following items in the order listed:

• Applicant Organizational History, Description of Capacity.

• Applicant's Plan for Implementing this Cooperative Agreement.

• Applicant's Management and Staffing.

• Collaboration.

• Measures of Effectiveness.

• Proposed Budget Justification.

The proposed budget justification will not be counted in the stated page limit.

In addition, applicants must comply with state and local reporting requirements. Your narrative must address the importance of responding to state guidelines, state and local reporting requirements and interdisciplinary services available.

Additional information may be included in the application appendices. The appendices will not be counted toward the narrative page limit. This additional information includes:

• Curriculum Vitaes,

• Resumes,

• Organizational Charts,

• Letters of Support, etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: April 4, 2005.

Explanation of Deadline: Applications must be received in the CDC Procurement and Grants Office by 4 p.m. Eastern Time on the deadline date. If you submit your application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on application content, submission address, and deadline. It supersedes information provided in the application instructions. If your submission does not meet the deadline above, it will not be eligible for review, and will be discarded. You will be notified that you did not meet the submission requirements.

If you submit your application electronically, you will receive an e-mail notice of receipt.

Otherwise, CDC will not notify you upon receipt of your submission. If you have a question about the receipt of your application, first contact your courier. If you still have a question, contact the PGO-TIM staff at: 770-488-2700. Before calling, please wait two to three days after the submission deadline. This will allow time for submissions to be processed and logged.

IV.4. Intergovernmental Review of Applications

Executive Order 12372 does not apply to this program.

IV.5. Funding Restrictions

Restrictions, which must be taken into account while writing your budget, are as follows:

• Funds may not be used for research.

• Reimbursement of pre-award costs is not allowed.

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

Application Submission Address: You may submit your application electronically at: http://www.grants.gov, OR submit the original and two hard copies of your application by mail or express delivery service to: Technical Information Management—RFA#05038, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement: To support existing state and local collaboratives in the prevention of child sexual abuse. More specifically, the purpose of this program is to integrate strategies that address: (1) Adult and community responsibility; (2) the prevention of perpetration; and (3) all levels of the social ecology (i.e. individual, relationship, community, and societal) into existing state and local level collaboratives that address CSA prevention.

Measures must be objective and quantitative, and must measure the intended outcome. Applicants are expected to develop three measures of effectiveness, one for each level of capacity building (collaborative, prevention planning, and evaluation), as described in Activities. These measures of effectiveness must be submitted with the application and will be an element of evaluation.

Your application will be evaluated against the following criteria:

1. Applicant's Plan for Implementing This Cooperative Agreement (40 points).

a. Does the applicant provide a description of the process to be used to assess the makeup of the statewide collaborative for appropriate representation from traditional and non-traditional partners (e.g. faith leaders, health care provider organizations, etc.)? Does the applicant provide a description of the process to be used to recruit missing partners in order to expand the reach of the collaborative?

b. Does the applicant provide a description of the process to be used to create and implement a comprehensive evaluation plan for state and local efforts? Does the applicant provide a plan for implementation of at least one survey to measure knowledge and attitudes of child sexual abuse perpetration prevention and community responsibility?

c. Does the applicant provide a description of the process to be used to develop a prevention plan that integrates: (1) Adult and community responsibility; (2) perpetration prevention; and (3) the social ecological model?

2. Applicant Organizational History, Description of Capacity (30 points).

a. Does the applicant demonstrate its ability to provide a strong leadership function in statewide efforts to prevent child sexual abuse? Does the applicant have a history of providing leadership in either state or local collaboratives that address child sexual abuse prevention efforts?

b. Does the applicant demonstrate a history of implementing child sexual abuse prevention programs or strategies based on at least one of the following foci: (1) Adult and community responsibility (2) perpetrator prevention; or (3) addressing multiple levels of the social ecology? Does the applicant demonstrate the capacity to create a 5-year prevention plan (e.g. past planning efforts) to integrate all three of the foci of this program?

c. Does the applicant demonstrate the capacity to develop an evaluation plan? Does the applicant demonstrate the capacity to conduct statewide or community surveys that address knowledge and attitudes? Does the applicant describe its history in administrating surveys that address knowledge and attitudes?

3. Applicant's Management and Staffing (15 points).

a. Does the applicant include their management operation or structure? An organizational chart of the applicant's organization should be included as an Appendix. Additionally, the applicant should include within their management plan the specific role and mechanisms to be established to ensure effective coordination, communication and shared decision making among any involved agencies/organizations.

b. Does the applicant include a staffing plan for the project, noting existing staff as well as additional staffing needs? The responsibilities of individual staff members including the level of effort and allocation of time for each project activity by staff position should be included. The specific staff positions within the other involved state level agencies, both in-kind and funded, should be described.

c. Does the applicant include resumes and/or position descriptions (i.e. for and in-kind and proposed positions to be funded under this cooperative agreement) in an appendix? This should include the use of consultants, as appropriate, from the identified perpetrator focused program.

d. Does the applicant include a continuation plan in the event that key staff leave the project? Does the applicant describe how new staff will be smoothly integrated into the project? Does the applicant include assurances that resources will be available when needed for this project

e. Does the applicant describe previous experience of project staff that is relevant to the goals of the program announcement?

4. Collaboration (15 points).

a. Does the applicant demonstrate an ability to identify and engage relevant stakeholders for the prevention of child sexual abuse?

b. Does the applicant include letters of support from members of its collaborative(s)? (These should be included in the appendix of the application.)

c. Does the applicant demonstrate a willingness to collaborate with other cooperative agreement recipients and CDC in the development of core components for the community survey and cross-site evaluation?

d. Does the applicant demonstrate a willingness to attend and participate in technical assistance and planning meetings coordinated by the CDC for all cooperative agreement recipients (two staff members, two meetings per year in Atlanta, two days per meeting)?

5. Measures of Effectiveness (not rated).

Does the applicant provide objective/quantifiable measures regarding the 3 levels of capacity building (collaborative, prevention planning, and evaluation), as described in Activities.

6. Proposed Budget Justification (not scored).

Does the applicant provide a detailed budget with complete line-item justification of all proposed costs consistent with the stated activities in the program announcement? Details must include a breakdown in the categories of personnel (with time allocations for each), state travel, including funds to participate in the CDC required meetings (two staff members, two meetings per year; one in Atlanta and one in the city of a funded applicant, 2 days per meeting), communications and postage, equipment, supplies and any other costs.

The applicant should provide a detailed budget request and complete line-item justification of all proposed operating expenses consistent with the stated activities under this program announcement. Applicants should be precise about the purpose of each budget item and should itemize calculations wherever appropriate. The use of the sample budget included in the application kit is encouraged. These funds should not be used to supplant existing efforts.

V.2. Review and Selection Process

Applications will be reviewed for completeness by the Procurement and Grants Office (PGO) staff and for responsiveness by the National Center for Injury Prevention and Control. Incomplete applications and applications that are non-responsive to the eligibility criteria will not advance through the review process. Applicants will be notified that their application did not meet submission requirements.

An objective review panel comprised of CDC-wide employees will evaluate complete and responsive applications according to the criteria listed in the “V.1. Criteria” section above.

CDC will provide justification for any decision to fund out of rank order.

V.3. Anticipated Announcement and Award Dates

September 30, 2005.

VI. Award Administration Information

VI.1. Award Notices

Successful applicants will receive a Notice of Award (NOA) from the CDC Procurement and Grants Office. The NOA shall be the only binding, authorizing document between the recipient and CDC. The NOA will be signed by an authorized Grants Management Officer, and mailed to the recipient fiscal officer identified in the application.

Unsuccessful applicants will receive notification of the results of the application review by mail.

VI.2. Administrative and National Policy Requirements

45 CFR part 74 and part 92.

For more information on the Code of Federal Regulations, see the National Archives and Records Administration at the following Internet address: http://www.access.gpo.gov/nara/cfr/cfr-table-search.html.

The following additional requirements apply to this project:

• AR-7 Executive Order 12372.

• AR-9 Paperwork Reduction Act Requirements.

• AR-10 Smoke-Free Workplace Requirements.

• AR-11 Healthy People 2010.

• AR-12 Lobbying Restrictions.

• AR-13 Prohibition on Use of CDC Funds for Certain Gun Control Activities.

• AR-14 Accounting System Requirements.

• AR-15 Proof of Non-Profit Status.

• AR-24 Health Insurance Portability and Accountability Act Requirements.

• AR-25 Release and Sharing of Data.

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Annual progress report, due 90 days after the end of the budget period.

a. Current Budget Period Activities Objectives (for second six months of budget period).

b. New Budget Period Program Proposed Activity Objectives.

3. Financial status report and annual progress report, no more than 90 days after the end of the budget period.

4. Final financial and performance reports, no more than 90 days after the end of the project period.

These reports must be mailed to the Grants Management or Contract Specialist listed in the “Agency Contacts” section of this announcement.

VII. Agency Contacts

We encourage inquiries concerning this announcement. For general questions, contact: Technical Information Management Section, CDC Procurement and Grants Office, 2920 Brandywine Road, Atlanta, GA 30341, Telephone: 770-488-2700.

For program technical assistance, contact: Renee Wright, Project Officer, National Center for Injury Prevention and Control, Centers for Disease Control and Prevention, 4770 Buford Hwy, NE., Mailstop K60, Atlanta, GA 30341, Telephone: 770-488-1146, E-mail: RWright@cdc.gov.

For financial, grants management, or budget assistance, contact: James Masone, Grants Management Specialist, CDC Procurement and Grants Office, 2920 Brandywine Road, Atlanta, GA 30341, Telephone: 770-488-2736, E-mail: JMasone@cdc.gov.

VIII. Other Information

This and other CDC funding opportunity announcements can be found on the CDC Web site, Internet address: http://www.cdc.gov. Click on “Funding” then “Grants and Cooperative Agreements.”

Dated: January 27, 2005.
William P. Nichols,
Director, Procurement and Grants Office, Centers for Disease Control and Prevention.

[FR Doc. 05-2039 Filed 2-2-05; 8:45 am]

BILLING CODE 4163-18-P